DEPARTMENT OF AGRICULTURE

Foreign Agricultural Service

Trade Adjustment Assistance for Farmers

AGENCY: Foreign Agricultural Service, USDA.

ACTION: Notice.

The Administrator, Foreign Agricultural Service (FAS), today accepted petitions filed by the United Fishermen of Alaska, Juneau, Alaska; the Puget Sound Salmon Commission, Seattle, Washington; and Salmon for All, Astoria, Oregon for trade adjustment assistance. The groups represent Pacific salmon fishermen in the states of Alaska, Washington, and Oregon, respectively. The Administrator will determine within 40 days whether or not imports of fresh, chilled, or frozen farmed salmon, whole or in fillets, contributed importantly to a decline in domestic producer prices of 20 percent or more during calendar 2002. If the determination is positive, all fishermen represented by the petitioners will be eligible to apply to the Farm Service Agency for adjustment assistance cash benefits and for technical assistance at no cost.

FOR FURTHER INFORMATION CONTACT: Jean-Louis Pajot, Coordinator, Trade Adjustment Assistance for Farmers, FAS, USDA, (202) 720-2916, e-mail: trade.adjustment@fas.usda.gov.

Signed at Washington, DC September 10, 2003.
Lyle Sebranek,
Acting Administrator, Foreign Agricultural Service and Acting Vice President, Commodity Credit Corporation.

[FR Doc. 03-23564 Filed 9-12-03; 8:45 am]

BILLING CODE 3410-10-P